DEPARTMENT OF TRANSPORTATION

Federal Motor Carrier Safety Administration

[Docket ID FMCSA-2007-0017]

Qualification of Drivers; Exemption Applications; Vision

AGENCY: Federal Motor Carrier Safety Administration (FMCSA), DOT.

ACTION: Notice of applications for exemptions; request for comments.

SUMMARY: FMCSA announces receipt of applications from 28 individuals for exemptions from the vision requirement in the Federal Motor Carrier Safety Regulations. If granted, the exemptions would enable these individuals to qualify as drivers of commercial motor vehicles (CMVs) in interstate commerce without meeting the Federal vision standard.

DATES: Comments must be received on or before December 28, 2007.

ADDRESSES: You may submit comments bearing the Federal Docket Management System (FDMS) Docket ID FMCSA-2007-0017 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477-78; Apr. 11, 2000). This information is also available at http://Docketinfo.dot.gov.

FOR FURTHER INFORMATION CONTACT: Dr. Mary D. Gunnels, Chief, Physical Qualifications Division, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 28 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Thomas E. Anderson

Mr. Anderson, age 53, has complete loss of vision in his left eye due to a traumatic injury sustained 35 years ago. The best corrected visual acuity in his right eye is 20/20. Following an examination in 2007, his optometrist noted, “Mr. Anderson has sufficient vision to perform the driving tasks required to operate a commercial vehicle.” Mr. Anderson reported that he has driven straight trucks for 35 years, accumulating 1.6 million miles. He holds a Class C operator's license from Washington. His driving record for the last 3 years shows no crashes and no convictions for moving violations in a CMV.

Garry A. Baker

Mr. Baker, 45, has a macular scar in his right eye due to an ocular injury sustained 25 years ago. The best corrected visual acuity in his right eye is 20/400 and in the left, 20/20. Following an examination in 2007, his ophthalmologist noted, “I believe that despite Mr. Baker's small central visual field defect and relatively poor vision in the right eye, his left eye is absolutely normal and the right eye has more than adequate visual field remaining to be able to perform the driving task required to operate a commercial vehicle for driving.” Mr. Baker reported that he has driven straight trucks for 29 years, accumulating 499,989 miles. He holds a Class A Commercial Driver's License (CDL) from Ohio. His driving record for the last 3 years shows no crashes and no convictions for moving violations in a CMV.

Richard D. Becotte

Mr. Becotte, 30, has central loss of vision in his left eye due to a large macular scar. The best corrected visual acuity in his right eye is 20/20 and in the left, 20/400. Following an examination in 2007, his optometrist noted, “His ocular health is otherwise normal and the reduced central vision he has in his left eye does not prevent him from operating a commercial vehicle in a safe manner because he has a perfectly normal and healthy right eye to compensate adequately.” Mr. Becotte reported that he has driven straight trucks for 10 years, accumulating 250,000 miles. He holds a Class A CDL from New Hampshire. His driving record for the last 3 years shows no crashes and no convictions for moving violations in a CMV.

Timothy W. Bickford

Mr. Bickford, 58, has had amblyopia in his right eye since childhood. The best corrected visual acuity in his right eye is 20/100 and in the left, 20/20. Following an examination in 2007, his optometrist noted, “Therefore, in my opinion, because he has held a commercial license for a number of years without incident, I see no visual reason to deny him continuance of his commercial license.” Mr. Bickford reported that he has driven straight trucks for 30 years, accumulating 1.1 million miles. He holds a Class A CDL from Maine. His driving record for the last 3 years shows no crashes and no convictions for moving violations in a CMV.

James E. Blazer

Mr. Blazer, 75, has had macular degeneration in his right eye since 2003. The best corrected visual acuity in his right eye is 20/200 and in the left, 20/25. Following an examination in 2007, his ophthalmologist noted, “In my medical opinion, his vision is sufficient to perform the tasks required to operate a commercial vehicle.” Mr. Blazer reported that he has tractor-trailer combinations for 50 years, accumulating 6.9 million miles. He holds a Class D operator's license from Tennessee. His driving record for the last 3 years shows no crashes and one conviction for a moving violation in a CMV, passing vehicles in a no passing zone.

Terry S. Brookshire, Jr.

Mr. Brookshire, 29, has had amblyopia in his right eye since childhood. The visual acuity in his right eye is light perception and in the left, 20/15. Following an examination in 2007, his optometrist noted, “In my opinion, Mr. Steven has sufficient vision to perform the tasks required to operate commercial vehicles. Mr. Brookshire reported that he has driven straight trucks for 5 years, accumulating 110,000 miles. He holds a Class A CDL from Tennessee. His driving record for the last 3 years shows no crashes and no convictions for moving violations in a CMV.

Wayne A. Burnett

Mr. Burnett, 44, has complete loss of vision in his right eye due to an injury sustained in 1997. The best corrected visual acuity in his left eye is 20/20. Following an examination in 2007, his optometrist noted, “Wayne has sufficient vision to perform driving a commercial vehicle. Mr. Burnett reported that he has driven straight trucks for 2 years, accumulating 420,000 miles. He holds a Class A CDL from North Carolina. His driving record for the last 3 years shows one crash and no convictions for moving violations in a CMV.

Theodore W. Cozat

Mr. Cozat, 64, has had a prosthetic right eye since childhood due to a birth defect. The best corrected visual acuity in his right eye is no light perception and in the left, 20/20. Following an examination in 2007, his optometrist noted, “In my medical opinion, he has the vision to operate a commercial vehicle safely, as he has done so for the past 33 years with a reportedly clean driving record. Mr. Cozat reported that he has driven tractor-trailer combinations for 17 years, accumulating 884,000 miles. He holds a Class A CDL from Michigan. His driving record for the last 3 years shows one crash and no convictions for moving violations in a CMV.

Zibbie L. Dawsey

Mr. Dawsey, 72, has a prosthetic right eye as a result of retinal detachment sustained in 1994. The best corrected visual acuity in his left eye is 20/25. Following an examination in 2007, his ophthalmologist noted, “This gentleman has for a number of years demonstrated that he can operate a commercial vehicle despite the fact he has lost his right eye. I would recommend that his waiver be granted for continued commercial operation.” Mr. Dawsey reported that he has driven straight trucks for 12 years, accumulating 300,000 miles, and tractor-trailer combinations for 18 years, accumulating 450,000 miles. He holds a Class A CDL from Alabama. His driving record for the last 3 years shows no crashes and no convictions for moving violations in a CMV.

Alex G. Dlugolenski

Mr. Dlugolenski, 57, has had amblyopia in his right eye since childhood. The best corrected visual acuity in his right eye is count-finger vision and in the left, 20/20. Following an examination in 2007, his optometrist noted, “Mr. Dlugolenski is well adapted to his vision and in my medical opinion capable of operating a commercial vehicle in interstate commerce.” Mr. Dlugolenski reported that he has driven straight trucks for 30 years, accumulating 300,000 miles. He holds a Class D operator's license from Connecticut. His driving record for the last 3 years shows no crashes and no convictions for moving violations in a CMV.

Karen Y. Duvall

Ms. Duvall, 48, has had amblyopia in her left eye since birth. The best corrected visual acuity in her right eye is 20/20 and in the left, 20/200. Following an examination in 2007, her ophthalmologist noted, “In my opinion, Karen Duvall has sufficient vision to perform the driving tasks required to operate a commercial vehicle.” Ms. Duvall reported that she has driven tractor-trailer combinations for 24 years, accumulating 3 million miles. She holds a Class A CDL from Georgia. Her driving record for the last 3 years shows no crashes and no convictions for moving violations in a CMV.

Gordon R. Fritz

Mr. Fritz, 45, has had amblyopia in his right eye since childhood. The best corrected visual acuity in his right eye is 20/70 and in the left, 20/20. Following an examination in 2007, his optometrist noted, “Mr. Fritz has sufficient vision to perform the driving tasks required to operate a commercial vehicle.” Mr. Fritz reported that he has driven straight trucks for 1 year, accumulating 500 miles, and tractor-trailer combinations for 8 years, accumulating 480,000 miles. He holds a Class D operator's license from Wisconsin. His driving record for the last 3 years shows no crashes and no convictions for moving violations in a CMV.

John A. Graham

Mr. Graham, 57, has had corneal laceration and cataract in his right eye due to a traumatic injury sustained as a child. The best corrected visual acuity in his right eye is light perception and in the left, 20/20. Following an examination in 2007, his ophthalmologist noted, “I see not contraindication to operate a commercial vehicle with the knowledge that he is monocular and should be wearing safety glasses at all times.” Mr. Graham reported that he has driven straight trucks for 34 years, accumulating 11.2 million miles. He holds a Class A CDL from Pennsylvania. His driving record for the last 3 years shows no crashes and no convictions for moving violations in a CMV.

Jimmy D. Gregory

Mr. Gregory, 67, has complete loss of vision in his right eye due to a detached retina and optic nerve atrophy as a result of a traumatic injury sustained as a child. The best corrected visual acuity in his left eye is 20/20. Following an examination in 2007, his optometrist noted, “I think Mr. Gregory has sufficient vision for driving a commercial vehicle.” Mr. Gregory reported that he has driven straight trucks for 10 years, accumulating 100,000 miles, and tractor-trailer combinations for 3 years, accumulating 75,000 miles. He holds a Class A CDL from Arkansas. His driving record for the last 3 years shows no crashes and one conviction for a moving violation, speeding in a CMV. He exceeded the speed limit by 15 mph.

Taras G. Hamilton

Mr. Hamilton, 41, has had a prosthetic left eye due to a traumatic injury sustained as a child. The best corrected visual acuity in his right eye is 20/20. Following an examination in 2007, his optometrist noted, “It is my opinion that Taras should be exempt from vision standards for his left eye, since his right eye is within normal limits (no restrictions).” Mr. Hamilton reported that he has driven straight trucks for 7 years, accumulating 299,999 miles, tractor-trailer combinations for 10 years, accumulating 700,000 miles, and buses for 1 year, accumulating 30,000 miles. He holds a Class A CDL from Texas. His driving record for the last 3 years shows no crashes and no convictions for moving violations in a CMV.

Larry K. Lentz

Mr. Lentz, 51, has had amblyopia in his right eye since childhood. The best corrected visual acuity in his right eye is 20/60 and in the left, 20/20. Following an examination in 2007, his ophthalmologist noted, “In my medial opinion, Mr. Lentz has sufficient vision or visual field to operate a commercial vehicle.” Mr. Lentz reported that he has driven straight trucks for 2 years, accumulating 90,000 miles, and tractor-trailer combinations for 20 years, accumulating 1.5 million miles. He holds a Class A CDL from Ohio. His driving record for the last 3 years shows no crashes and no convictions for moving violations in a CMV.

Boleslaw Makowski

Mr. Makowski, 58, has age related macular degeneration in his left eye since 1994. The best corrected visual acuity in his right eye is 20/25 and in the left, 20/200. Following an examination in 2007, his optometrist noted, “With proper rear view mirrors and appropriate caution considering his limitations in his left eye, I feel Mr. Makowski can still operate a commercial vehicle.” Mr. Makowski reported that he has driven straight trucks for 1 year, accumulating 3,000 miles, and tractor-trailer combinations for 24 years, accumulating 1.9 million miles. He holds a Class A CDL from Wisconsin. His driving record for the last 3 years shows no crashes and no convictions for moving violations in a CMV.

Joseph W. Meacham

Mr. Meacham, 45, has loss of vision in his right eye due to a traumatic injury sustained as a child. The best corrected visual acuity in his right eye is 20/400 and in the left, 20/20. Following an examination in 2007, his optometrist noted, “It is my opinion that Joseph has sufficient vision to perform as a commercial operator of vehicles.” Mr. Meacham reported that he has driven straight trucks for 2 years, accumulating 500,000 miles, and tractor-trailer combinations for 13 years, accumulating 4.7 million miles. He holds a Class A CDL from North Carolina. His driving record for the last 3 years shows no crashes and no convictions for moving violations in a CMV.

Charles M. Moore

Mr. Moore, 52, has mild edema and a cataract removal from his left eye. The visual acuity in his right eye is 20/25 and in the left, 20/50. Following an examination in 2007, his ophthalmologist noted, “In my medical opinion, he has sufficient vision to perform all the driving tasks required to operate a commercial vehicle, and is able to distinguish red, green, and amber traffic signals.” Mr. Moore reported that he has driven straight trucks for 20 years, accumulating 100,000 miles, and tractor-trailer combinations for 10 years, accumulating 150,000 miles. He holds a Class A CDL from Texas. His driving record for the last 3 years shows no crashes and one conviction for a moving violation, speeding in a CMV. He exceeded the speed limit by 13 mph.

Anthony D. Ovitt

Mr. Ovitt, 44, has had a retinal scar in his left eye since birth. The best corrected visual acuity in his right eye is 20/20 and in the left, 20/80. Following an examination in 2007, his optometrist noted, “With the excellent acuity of the right eye and the normal fields of both eyes, I certify that Mr. Ovitt's vision is sufficient to operate a commercial vehicle safely.” Mr. Ovitt reported that he has driven straight trucks for 2 years, accumulating 40,000 miles, and tractor-trailer combinations for 9 years, accumulating 900,000 miles. He holds a Class A CDL from Vermont. His driving record for the last 3 years shows no crashes and no convictions for moving violations in a CMV.

John R. Parsons, III

Mr. Parsons, 47, has had amblyopia in his right eye since birth. The best corrected visual acuity in his right eye is 20/50 and in the left, 20/20. Following an examination in 2007, his optometrist noted, “This condition is stable and in my opinion based on the physical examination of Mr. Parsons through all the perimeters of standard vision, Mr. Parson demonstrates the ability required to perform duties driving a commercial vehicle as long as he wears corrective lenses, either in the form of eye glasses or contact lenses.” Mr. Parsons reported that he has driven tractor-trailer combinations for 8 years, accumulating 1 million miles. He holds a Class A CDL from Virginia. His driving record for the last 3 years shows no crashes and no convictions for moving violations in a CMV.

Steven S. Reinsvold

Mr. Reinsvold, 45, has had amblyopia in his right eye since birth. The best corrected visual acuity in his right eye is 20/200 and in the left, 20/20. Following an examination in 2007, his optometrist noted, “He shows normal color vision capability and, in my opinion, has sufficient vision to perform the driving tasks required to operate a commercial vehicle.” Mr. Reinsvold reported that he has driven straight trucks for 25 years, accumulating 750,000 miles. He holds a Class D operator's license from Wisconsin. His driving record for the last 3 years shows no crashes and no convictions for moving violations in a CMV.

Michael J. Richard

Mr. Richard, 48, has had constant alternating exotropia since birth. The best corrected visual acuity in his right eye is 20/20 and in the left, 20/20. Due to his condition, Mr. Richard lacks binocular vision. Following an examination in 2007, his optometrist noted, “In my opinion, Mr. Richard has vision adequate to drive a commercial vehicle, especially in light of his long work history doing this very job with an apparently successful track record.” Mr. Richard reported that he has driven straight trucks for 17 years, accumulating 544,986 miles, and tractor-trailer combinations for 15 years, accumulating 1.3 million miles. He holds a Class A CDL from Lousiana. His driving record for the last 3 years shows no crashes and no convictions for moving violations in a CMV.

Glenn T. Riley

Mr. Riley, 48, has had amblyopia in his left eye since childhood. The best corrected visual acuity in his right eye is 20/20 and in the left, 20/100. Following an examination in 2007, his ophthalmologist noted, “There is no ocular contraindication for operating a commercial vehicle.” Mr. Riley reported that he has driven straight trucks for 15 years, accumulating 1.3 million miles, and tractor-trailer combinations for 15 years, accumulating 1.1 million miles. He holds a Class A CDL from Ohio. His driving record for the last 3 years shows no crashes and no convictions for moving violations in a CMV.

George E. Todd

Mr. Todd, 59, has complete loss of vision in his left eye due to a traumatic injury sustained as a child. The best corrected visual acuity in his right eye is 20/25. Following an examination in 2007, his ophthalmologist noted, “In opinion, this gentleman has sufficient vision to perform driving tasks that are required to operate a commercial vehicle.” Mr. Todd reported that he has driven straight trucks for 12 years, accumulating 600,000 miles, and tractor-trailer combinations for 12 years, accumulating 1 million miles. He holds a Class A CDL from West Virginia. His driving record for the last 3 years shows no crashes and no convictions for moving violations in a CMV.

Gary S. Warren

Mr. Warren, 43, has had amblyopia in his right eye since childhood. The best corrected visual acuity in his right eye is 20/60 and in the left, 20/20. Following an examination in 2007, his ophthalmologist noted, “In my medical opinion, he does have sufficient vision to operate a commercial vehicle out of his left eye.” Mr. Warren reported that he has driven straight trucks for 22 years, accumulating 440,000 miles, and tractor-trailer combinations for 4 years, accumulating 120 miles. He holds a Class A CDL from Iowa. His driving record for the last 3 years shows no crashes and no convictions for moving violations in a CMV.

Bradley A. Weiser

Mr. Weiser, 41, has had amblyopia in his right eye since childhood. The best corrected visual acuity in his right eye is 20/50 and in the left, 20/20. Following an examination in 2007, his optometrist noted, “In my medical opinion, this patient has sufficient vision, to perform the driving tasks required to operate a commercial vehicle out of his left eye.” Mr. Weiser reported that he has driven tractor-trailer combinations for 14 years, accumulating 1.1 million miles. He holds a Class A CDL from Ohio. His driving record for the last 3 years shows no crashes and one conviction for a moving violation, speeding in a CMV. He exceeded the speed limit by 12 mph.

Eddie L. Williams

Mr. Williams, 42, has had reduced vision in his right eye since childhood. The best corrected visual acuity in his right eye is hand-motion vision and in the left, 20/15. Following an examination in 2007, his ophthalmologist noted, “the patient has sufficient vision to perform the driving tasks required to operate a commercial vehicle.” Mr. Williams reported that he has driven tractor-trailer combinations for 4 years, accumulating 120,000 miles. He holds a Class A CDL from Nevada. His driving record for the last 3 years shows one crash and no convictions for moving violations in a CMV.

Request for Comments

In accordance with 49 U.S.C. 31136(e) and 31315, FMCSA requests public comment from all interested persons on the exemption petitions described in this notice. The Agency will consider all comments received before the close of business December 28, 2007. Comments will be available for examination in the docket at the location listed under the ADDRESSES section of this notice.

The Agency will file comments received after the comment closing date in the public docket, and will consider them to the extent practicable. In addition to late comments, FMCSA will also continue to file, in the public docket, relevant information that becomes available after the comment closing date. Interested persons should monitor the public docket for new material.

Issued on: November 19, 2007.
Larry W. Minor,
Associate Administrator for Policy and Program Development.

[FR Doc. E7-23106 Filed 11-27-07; 8:45 am]

BILLING CODE 4910-EX-P